DEPARTMENT OF COMMERCE

National Oceanic and Atmospheric Administration

RIN 0648-XC279

Endangered and Threatened Species; Recovery Plan South-Central California Coast Steelhead Distinct Population Segment

AGENCY: National Marine Fisheries Service (NMFS), National Oceanic and Atmospheric Administration (NOAA), Commerce.

ACTION: Notice of availability; request for comments.

SUMMARY: NMFS announces the availability for public review of the Public Review Draft Recovery Plan (Plan) for the South-Central California Coast (SCCCS) (Oncorhynchus mykiss) Distinct Population (DPS). NMFS is soliciting review and comment from the public and all interested parties on the Plan, and will consider all substantive comments received during the review period before submitting the Plan for final approval. In addition, public meetings will be held as opportunities for learning more about and providing comments on the Public Review Draft Plan (see Public Meetings paragraph).

DATES: Comments must be received no later than 5 p.m. Pacific daylight time on December 18, 2012.

ADDRESSES: NMFS will accept anonymous comments (enter N/A in the required fields, if you wish to remain anonymous). You may submit attachments to electronic comments in Microsoft Word, Excel, or Adobe PDF file formats only. You may submit comments by any of the following methods:

• Via email: SCCCS.Recovery@noaa.gov (No files larger than 5MB can be accepted)

• Via U.S. Mail: Penny Ruvelas, National Marine Fisheries Service, 501 West Ocean Blvd., Suite 4200, Long Beach, CA 90802. ATTN: Penny Ruvelas/SCCC Steelhead Public Review Draft Recovery Plan Comments.

• Hand delivered: National Marine Fisheries Service, 501 West Ocean Blvd. Suite 4200, Long Beach, CA 90802 ATTN: Protected Resources Division/SCCC Steelhead Public Review Draft Recovery Plan Comments. Business hours are 8 a.m. to 4:30 p.m. Monday through Friday, except Federal holidays.

• Via fax: 562-980-4027. Please include the following on the cover page of the fax: “ATTN: Penny Ruvelas/SCCC Steelhead Public Review Draft Recovery Plan Comments.”

FOR FURTHER INFORMATION CONTACT: Mark H. Capelli, Recovery Coordinator, South-Central/Southern California, (805) 963-6478 or mark.capelli@noaa.gov.

SUPPLEMENTARY INFORMATION: NMFS is charged with the recovery of Pacific salmon and steelhead species listed under the Endangered Species Act (ESA). Recovery means that listed species and their ecosystems are restored, and their future secured, so that the protections of the ESA are no longer necessary. The ESA specifies that recovery plans must include: (1) A description of management actions necessary to achieve the plan's goals for the conservation and survival of the species; (2) objective, measurable criteria which, when met, would result in the species being removed from the list; and (3) estimates of time and costs required to achieve the plan's goal and the intermediate steps towards that goal. Section 4(f) of the ESA, as amended in 1988, requires that public notice and an opportunity for public review and comment be provided during recovery plan development. NMFS is hereby soliciting relevant information on SCCC Steelhead DPS populations and their freshwater/marine habitats. In addition, NMFS is soliciting comment on the contents of the proposed recovery plan.

Persons wishing to review the Public Review Draft Plan can obtain an electronic copy (i.e., CD ROM) from Aimee Fairbanks by calling (562) 980-4013 or by emailing a request to aimee.fairbanks@noaa.gov with the subject line “CD ROM Request for SCCC Steelhead Public Review Draft Recovery Plan.” Electronic copies of the Public Review Draft Plan are also available on line on the following NMFS Web site: http://swr.nmfs.noaa.gov/recovery.

Public Meetings

Public meetings are planned for Monday, October 29th at 2 p.m. at the Ludwick Community Center, 864 Santa Rosa, San Luis Obispo CA 93401 and Tuesday, October 30th at 2 p.m. at the Monterey Public Library, Community Room, 625 Pacific Street, Monterey CA 93940.

Authority: 16 U.S.C. 1531 et seq.

Dated: October 12, 2012.
Larissa Plants,
Acting Chief, Endangered Species Division, Office of Protected Resources, National Marine Fisheries Service.

[FR Doc. 2012-25733 Filed 10-18-12; 8:45 am]

BILLING CODE 3510-22-P